DEPARTMENT OF HOMELAND SECURITY

Solicitation of Proposal Information for Award of Public Contracts

AGENCY: Office of the Chief Procurement Officer, Acquisition Policy and Legislation Office, DHS.

ACTION: 30-Day Notice and request for comments: Extension without change of a currently approved collection, 1600-0005.

SUMMARY: The Department of Homeland Security, Office of the Chief Procurement Officer, Acquisition Policy and Legislation Office, will submit the following information collection request (ICR) to the Office of Management and Budget (OMB) for review and clearance in accordance with the Paperwork Reduction Act of 1995 (Pub. L. 104-13 (as amended), 44 U.S.C. Chapter 35). The Office of the Chief Procurement Officer is soliciting comments related to its request for extension of an existing information collection authority for the solicitation of proposal information for award of public contracts under Homeland Security Acquisition Regulation (HSAR). DHS previously published this information collection request (ICR) in the Federal Register on June 6, 2008 at 73 FR 32343, for a 60-day public comment period. No comments were received by DHS. The purpose of this notice is to allow additional 30-days for public comments.

DATES: Comments are encouraged and will be accepted until September 26, 2008. This process is conducted in accordance with 5 CFR 1320.1

ADDRESSES: Interested persons are invited to submit written comments on the proposed information collection to the Office of Information and Regulatory Affairs, Office of Management and Budget. Comments should be addressed to OMB Desk Officer, Department of Homeland Security, Office of the Chief Procurement Officer, Acquisition Policy and Legislation Office, and sent via electronic mail to oira_submission@omb.eop.gov or faxed to (202) 395-6974. The Office of Management and Budget is particularly interested in comments regarding:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Acquisition Policy and Legislation Office, Attn: Patricia Corrigan for the Department of Homeland Security, Office of the Chief Procurement Officer, Room 3114, Washington, DC 20528.

SUPPLEMENTARY INFORMATION: The Department of Homeland Security (DHS), Office of the Chief Procurement Officer request renewal of an existing OMB Control Number for information requested from prospective contractors in response to agency-issued solicitations. The information requested is specific to each solicitation, and is required in order for DHS to properly evaluate offeror/bidder qualifications and capabilities in order to make informed decisions in awarding contracts. Information requested typically includes that related to offerors' or bidders' management approach, technical and pricing information, delivery and other pertinent information. This notice provides a request for renewal of OMB Control Number 1600-0005 previously granted in August 2005.

Analysis

Agency: Department of Homeland Security, Office of the Chief Procurement Officer, Acquisition Policy and Legislation Office.

Title: Solicitation of Proposal Information for Award of Public Contracts.

OMB Number: 1600-0005.

Frequency: Once.

Affected Public: Businesses and individuals.

Estimated Number of Respondents: 10,850.

Estimated Time Per Respondent: 14 hours.

Total Burden Hours: 151,900 annual burden hours.

Total Burden Cost (capital/startup): $0.00.

Total Burden Cost (operating/maintaining): $0.00.

Richard Mangogna,
Chief Information Officer.

[FR Doc. E8-19891 Filed 8-26-08; 8:45 am]

BILLING CODE 4410-10-P